DEPARTMENT OF TRANSPORTATION

Maritime Administration

U.S. Maritime Transportation System National Advisory Committee; Notice of Public Meeting

AGENCY: Maritime Administration, Department of Transportation.

ACTION: Notice of public meeting.

SUMMARY: The Maritime Administration (MARAD) announces a public meeting of the U.S. Maritime Transportation System National Advisory Committee (MTSNAC) to develop and discuss advice and recommendations for the U.S. Department of Transportation on issues related to the marine transportation system.

DATES: The meeting will be held on Tuesday, November 29, 2022, from 9:00 a.m. to 4:30 p.m. and Wednesday, November 30, 2022, from 9:00 a.m. to 4:30 p.m. Eastern Daylight Time (EDT).

Requests to attend the meeting must be received no later than 5:00 p.m. EDT on the prior week Monday, November 21, 2022, in order to facilitate entry. Requests for accommodations to a disability must be received by the day prior to the meeting Monday, November 28, 2022. Those requesting to speak during the public comment period of the meeting must submit a written copy of their remarks to DOT by no later than by the prior week Monday, November 21, 2022. Requests to submit written materials to be reviewed during the meeting must also be received by the prior week Monday, November 21, 2022.

ADDRESSES: The meeting will be held at the DOT Conference Center located at 1200 New Jersey Ave. SE, Washington, DC 20590. Any Committee related request should be sent to the person listed in the following section.

FOR FURTHER INFORMATION CONTACT: Chad Dorsey, Designated Federal Officer, at MTSNAC@dot.gov or at (202) 997-6205. Maritime Transportation System National Advisory Committee, 1200 New Jersey Avenue SE, W21-307, Washington, DC 20590. Please visit the MTSNAC website at https://www.maritime.dot.gov/outreach/maritime-transportation-system-mts/maritime-transportation-system-national-advisory-0.

SUPPLEMENTARY INFORMATION:

Background

The MTSNAC is a Federal advisory committee that advises the U.S. Secretary of Transportation through the Maritime Administrator on issues related to the maritime transportation system. The MTSNAC was established in 1999 and mandated in 2007 by the Energy Independence and Security Act of 2007 (Pub. L. 110-140). The MTSNAC is codified at 46 U.S.C. 50402 and operates in accordance with the provisions of the Federal Advisory Committee Act.

Agenda

The agenda will include: (1) welcome, opening remarks, and introductions; (2) administrative items; (3) subcommittee break-out sessions; (4) updates to the Committee on the subcommittee work; (5) public comments; and (6) discussions relevant to formulate recommendations for to the Secretary. A final agenda will be posted on the MTSNAC internet website at https://www.maritime.dot.gov/outreach/maritime-transportation-system-mts/maritime-transportation-system-national-advisory-0 at least one week in advance of the meeting.

Public Participation

The meeting will be open to the public. Members of the public who wish to attend in person must RSVP to the person listed in the FOR FURTHER INFORMATION CONTACT section with your name and affiliation. Seating will be limited and available on a first-come-first-serve basis.

Services for individuals with disabilities: The public meeting is physically accessible to people with disabilities. The U.S. Department of Transportation is committed to providing all participants equal access to this meeting. If you need alternative formats or services because of a disability, such as sign language, interpretation, or other ancillary aids, please contact the person listed in the FOR FURTHER INFORMATION CONTACT section.

Public comments: A public comment period will commence at approximately 11:45 a.m. EST on November 29, 2022, and again on November 30, 2022, at the same time. To provide time for as many people to speak as possible, speaking time for each individual will be limited to three minutes. Members of the public who would like to speak are asked to contact the person listed in the FOR FURTHER INFORMATION CONTACT section. Commenters will be placed on the agenda in the order in which notifications are received. If time allows, additional comments will be permitted. Copies of oral comments must be submitted in writing at the meeting or preferably emailed to the person listed in the FOR FURTHER INFORMATION CONTACT section. Additional written comments are welcome and must be filed as indicated below.

Written comments: Persons who wish to submit written comments for consideration by the Committee must send them to the person listed in the FOR FURTHER INFORMATION CONTACT section.

(Authority: 49 CFR part 1.93(a); 5 U.S.C. 552b; 41 CFR parts 102-3; 5 U.S.C. app. Sections 1-16)

By Order of the Maritime Administrator:
T. Mitchell Hudson, Jr.,
Secretary, Maritime Administration.

[FR Doc. 2022-22996 Filed 10-21-22; 8:45 am]

BILLING CODE 4910-81-P